DEPARTMENT OF TRANSPORTATION

Federal Highway Administration

Notice of Final Federal Agency Actions on Van Wyck Expressway Capacity and Access Improvements to JFK Airport Project, Queens County, New York

AGENCY: Federal Highway Administration (FHWA), DOT.

ACTION: Notice of limitation on claims for judicial review of actions by FHWA and other federal agencies.

SUMMARY: This notice announces action taken by FHWA and other Federal agencies that are final. The actions relate to the Van Wyck Expressway Capacity and Access Improvements to John F. Kennedy (JFK) Airport Project located in Queens County, New York.

DATES: By this notice, FHWA is advising the public of final agency actions subject to 23 U.S.C. 139(l)(1). A claim seeking judicial review of the Federal agency actions on the highway project will be barred unless the claim is filed on or before FEBRUARY 10, 2020. If the Federal law that authorizes judicial review of a claim provides a time period of less than 150 days for filing such claim, then that shorter time period still applies.

FOR FURTHER INFORMATION CONTACT: Richard J. Marquis, Division Administrator, Federal Highway Administration, Leo W. O'Brien Federal Building, Room 719, 11A Clinton Avenue, Albany, New York 12207, Telephone (518) 431-4127.

SUPPLEMENTARY INFORMATION: Notice is hereby given that FHWA and other Federal agencies have taken final agency actions by issuing approvals for the following highway project in the State of New York: Van Wyck Expressway Capacity and Access Improvements to JFK Airport Project, Queens County, New York (“the Project”). The purpose of the Project is to provide increased capacity on the Van Wyck Expressway (VWE) between the Kew Gardens Interchange (KGI) and JFK Airport to improve vehicular access to and from JFK Airport. In addition, the Project will address operational, geometric, and structural deficiencies on the VWE between the KGI and JFK Airport.

The following objectives have been established to further refine the Project purpose:

• Provide an additional vehicular travel lane on the VWE in each direction between JFK Airport and the KGI.

• Address geometric and operational deficiencies of the VWE exit/entrance ramps within the identified project limits.

• Address structural deficiencies on the bridges on or crossing over the VWE within the project limits.

The actions by the Federal agencies, and the laws under which such actions were taken, are described in the FHWA Final Environmental Impact Statement (FEIS) for the project, approved by FHWA in the Record of Decision (ROD) issued on August 14, 2019, and in other documents in the FHWA administrative record. The FEIS, ROD, and other documents in the FHWA administrative record files are available by contacting FHWA at the address provided above. The FEIS and ROD can also be viewed and downloaded from the project website at: https://www.dot.ny.gov/VWE.

This notice applies to FHWA agency decisions as of the issuance date of this notice and all laws under which such actions were taken, including but not limited to:

1. General: National Environmental Policy Act (NEPA) [42 U.S.C. 4321-4351]; Federal-Aid Highway Act [23 U.S.C. 109].

2. Air: Clean Air Act [42 U.S.C. 7401-7671(q)] (Transportation Conformity).

3. Noise: Noise Control Act of 1972 [42 U.S.C. 4901 et seq.].

4. Land: Section 4(f) of the Department of Transportation Act of 1966 [49 U.S.C. 303]; Landscaping and Scenic Enhancement (Wildflowers) [23 U.S.C. 319].

5. Wildlife: Endangered Species Act [16 U.S.C. 1531-1544 and Section 1536], Marine Mammal Protection Act [16 U.S.C. 1361], Fish and Wildlife Coordination Act [16 U.S.C. 661-667(d)], Migratory Bird Treaty Act [16 U.S.C. 703-712], Magnuson-Stevens Fishery Conservation and Management Act of 1976, as amended [16 U.S.C. 1801 et seq.].

6. Historic and Cultural Resources: Section 106 of the National Historic Preservation Act of 1966, as amended [16 U.S.C. 470(f) et seq.]; Archeological Resources Protection Act of 1977 [16 U.S.C. 470(aa)-11]; Archeological and Historic Preservation Act [16 U.S.C. 469-469(c)]; Native American Grave Protection and Repatriation Act (NAGPRA) [25 U.S.C. 3001-3013].

7. Social and Economic: Civil Rights Act of 1964 [42 U.S.C. 2000(d)-2000(d)(1)]; American Indian Religious Freedom Act [42 U.S.C. 1996].

8. Right of Way: Uniform Relocation Assistance and Real Property Acquisition Policies Act of 1970 [42 U.S.C. 4601 et seq.].

9. Wetlands and Water Resources: Coastal Zone Management Act, 16 U.S.C. 1451-1465; Land and Water Conservation Fund (LWCF), 16 U.S.C. 4601-4604; Safe Drinking Water Act (SDWA), 42 U.S.C. 300(f)-300(j)(6); 33 U.S.C. 401-406; Flood Disaster Protection Act, 42 U.S.C. 4001-4128; Clean Water Act (Section 404, Section 401, Section 402, Section 319) [33 U.S.C. 1251-1377].

10. Hazardous Materials: Comprehensive Environmental Response, Compensation, and Liability Act (CERCLA), 42 U.S.C. 9601-9675; Superfund Amendments and Reauthorization Act of 1986 (SARA); Resource Conservation and Recovery Act (RCRA), 42 U.S.C. 6901-6992(k).

11. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on: September 3, 2019.
Richard J. Marquis,
Division Administrator, Albany, New York.

[FR Doc. 2019-19780 Filed 9-11-19; 8:45 am]

BILLING CODE 4910-RY-P